DEPARTMENT OF LABOR

Occupational Safety and Health Administration

Federal Advisory Council on Occupational Safety and Health; Notice of Meeting

AGENCY: Occupational Safety and Health Administration (OSHA), Labor.

ACTION: Federal Advisory Council on Occupational Safety and Health (FACOSH); Notice of meeting.

SUMMARY: The Federal Advisory Council on Occupational Safety and Health (FACOSH) was established to advise the Secretary of Labor on issues relating to the occupational safety and health of Federal employees. The purpose of this Federal Register notice is to announce the upcoming FACOSH meeting. The Agenda items for the meeting will include:

1. Call to Order.

2. Program Updates.

a. GAO Audit.

b. SHARE.

c. Federal Recordkeeping.

d. Federal Agency Training.

e. Pandemic Flu Guidance for Federal Agencies.

3. New Business.

4. Adjournment.

DATES: The Council will meet on Thursday, September 28, 2006, from 10 a.m. to 4:30 p.m.

ADDRESSES: The Council will meet at the U.S. Department of Labor, Mine Safety and Health Administration (MSHA) located at 1100 Wilson Boulevard, Arlington, VA 22209. The meeting will be held in MSHA Conference Rooms 2537G-2540K.

FOR FURTHER INFORMATION CONTACT: For additional information, please contact Diane Brayden, Director, Office of Federal Agency Programs, U.S. Department of Labor, Occupational Safety and Health Administration, Room N-3622, 200 Constitution Avenue, NW., Washington, DC 20210; telephone: (202) 693-2187. Individuals with disabilities who need special accommodations and wish to attend the meeting should contact Ms. Brayden at the address indicated above.

SUPPLEMENTARY INFORMATION: The FACOSH meeting is open to the public. All interested persons are invited to attend the FACOSH meeting at the time and location listed above. Anyone wishing to attend this meeting must be prepared to exhibit photo identification and sign-in at MSHA's front office, located in Suite 2176, for authorization to enter the meeting area.

Public Participation: Written data, views, or comments may be submitted, preferably with 20 copies, to the Office of Federal Agency Programs at the Department of Labor Frances Perkins Building, 200 Constitution Avenue, NW., Washington, DC 20210. All such submissions received by September 21, 2006 will be provided to the Federal Advisory Council members and included in the meeting record. Anyone wishing to make an oral presentation should notify the Office of Federal Agency Programs by the close of business on September 21, 2006. The request should state the amount of time desired, the capacity in which the person will appear, and a brief outline of the presentation's content. Those who request the opportunity to address the Council may be allowed to speak, as time permits, at the discretion of the Chairperson. An official record of the meeting will be available for public inspection at the Office of Federal Agency Programs.

Authority: Edwin G. Foulke, Jr., Assistant Secretary of Labor Occupational Safety and Health, directed the preparation of this notice under the authority granted by Section 1-5 of Executive Order 12196 and the Federal Advisory Committee Act (5 U.S.C. App.2).

Signed at Washington, DC, this 30th day of August, 2006.
Edwin G. Foulke, Jr.,
Assistant Secretary of Labor.

[FR Doc. E6-14875 Filed 9-7-06; 8:45 am]

BILLING CODE 4510-26-P